DEPARTMENT OF TRANSPORTATION

Federal Aviation Administration

14 CFR Part 71

[Docket No. FAA-2025-5340; Airspace Docket No. 25-AEA-8]

RIN 2120-AA66

Amendment of Class D, Class E2, Class E4 and Class E5 Airspace Over Patuxent River, MD

AGENCY: Federal Aviation Administration (FAA), DOT.

ACTION: Final rule.

SUMMARY: This action amends Class D, Class E2, Class E4, and Class E5 airspace at Patuxent River Naval Air Station (NAS) (Trapnell Field), Patuxent River, MD. The previously designated controlled airspace did not properly contain instrument flight rule (IFR) operations, which require controlled airspace. The geographic coordinates for Patuxent River NAS (Trapnell Field) are updated in the airspace legal descriptions. The references to the decommissioned Patuxent VORTAC are updated in the Class E2, Class E4, and Class E5 airspace legal descriptions. Last, the references to the decommissioned Patuxent River NDB are removed in the Class E2 and Class E4 airspace legal descriptions.

DATES: Effective 0901 UTC, May 14, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year. An electronic copy of this document may also be downloaded from www.federalregister.gov.

FAA Order JO 7400.11K, Airspace Designations and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Marc Ellerbee, Operations Support Group, Eastern Service Center, Federal Aviation Administration, 1701 Columbia Avenue, College Park, GA 30337; Telephone: (404) 305-5589.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D, Class E2, Class E4, and Class E5 airspace in Patuxent River, MD.

History

The FAA published an NPRM for Docket No. FAA-2025-5340 in the Federal Register (90 FR 59419; December 19, 2025), proposing to amend Class D, Class E2, Class E4, and Class E5 airspace above Patuxent River, MD. Interested parties were invited to participate in this rulemaking effort by submitting written comments on the proposal to the FAA. No comments were received.

Difference From the NPRM

Subsequent to the publication of the NPRM in the Federal Register, the FAA discovered that the Patuxent River Non-Directional Beacon (NDB) had been decommissioned. Notice of this decommissioning was published in the National Flight Data Digest (NFDD) on December 18, 2025 (NFDD 241-3). Accordingly, this final rule incorporates corrective revisions that remove the references to the Patuxent River NDB from the airspace legal descriptions for Patuxent River, MD. Because this is an administrative change that does not alter airspace boundaries or impose additional requirements on users of the airspace, the FAA finds good cause that recirculating the NPRM for public notice and comment is unnecessary.

Incorporation by Reference

Class D, Class E2, Class E4, and Class E5 airspace designations are published in paragraphs 5000, 6002, 6004, and 6005 of FAA Order JO 7400.11, Airspace Designations and Reporting Points, which is incorporated by reference in 14 CFR 71.1 on an annual basis. This document amends the latest version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying the Class D, Class E2, Class E4, and Class E5 airspace for Patuxent River NAS (Trapnell Field), Patuxent River, MD. Controlled airspace is necessary for the safety and management of IFR operations in the area for existing instrument approach procedures.

This action amends the Class D airspace over Patuxent River, MD, by updating the Patuxent River NAS (Trapnell Field) geographic coordinates and increasing the lateral boundary of the Class D airspace to within a 4.7-mile radius of Patuxent River NAS (Trapnell Field) and within a .5-mile radius of Chesapeake Ranch Airport, excluding that airspace within Restricted Areas R-4005 and R-4007 when active. The superseded reference to the “Airport Facility Directory” is replaced with “Chart Supplement” in the airspace legal description.

This action amends the Class E2 airspace over Patuxent River, MD, by updating the geographic coordinates of Patuxent River NAS (Trapnell Field) and modifying the dimensions from the current configuration to that airspace extending upward from the surface within a 4.7-mile radius of Patuxent River NAS (Trapnell Field) and within 1.8 miles each side of the 047° bearing from Patuxent River NAS extending from the 4.7-mile radius of Patuxent River NAS to 6.5 miles northeast of the airport; and within 1.9 miles each side of the 233° bearing from Patuxent River NAS extending from the 4.7-mile radius to 6.2 miles southwest of the airport; and within 1.8 miles each side of the 137° bearing from Patuxent River NAS extending from the 4.7-mile radius to 10.8 miles southeast of the airport; and within a .5-mile radius of Chesapeake Ranch Airport, excluding that airspace within Restricted Areas R-4005 and R-4007 when active. This reconfiguration properly contains the currently published standard instrument approach procedures. The references to the decommissioned Patuxent VORTAC and Patuxent River NDB in the Class E2 legal description are removed.

This action also amends the Class E4 airspace over Patuxent River, MD, by updating the geographic coordinates of Patuxent River NAS (Trapnell Field) and modifying the dimensions from the current configuration to that airspace extending upward from the surface within 1.8 miles each side of the 047° bearing from Patuxent River NAS extending from the 4.7-mile radius of Patuxent River NAS to 6.5 miles northeast of the airport; and within 1.9 miles each side of the 233° bearing from Patuxent River NAS extending from the 4.7-mile radius to 6.2 miles southwest of the airport; and within 1.8 miles each side of the 137° bearing from Patuxent River NAS extending from the 4.7-mile radius to 10.8 miles southeast of the airport, excluding that airspace within Restricted Areas R-4005 and R-4007 when active. This reconfiguration properly contains the currently published standard instrument approach procedures. Additionally, the references to the decommissioned Patuxent VORTAC and Patuxent River NDB in the Class E4 legal description are removed; and the superseded reference to the “Airport Facility Directory” is replaced with “Chart Supplement”.

This action also amends the Class E5 airspace over Patuxent River, MD, by replacing the reference to the decommissioned Patuxent VORTAC with point in space coordinates using the same geographic coordinates.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures” paragraph B-2.5(a). This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

* * * * *

AEA MD D Patuxent River, MD [Amended]

Patuxent River NAS (Trapnell Field), MD

(Lat. 38°17′11″ N, long. 76°24′36″ W)

Chesapeake Ranch Airport, MD

(Lat. 38°21′40″ N, long. 76°24′19″ W)

That airspace extending upward from the surface to and including 2,500 feet MSL within a 4.7-mile radius of Patuxent River NAS (Trapnell Field) and within a .5-mile radius of Chesapeake Ranch Airport excluding that airspace within Restricted Areas R-4005 and R-4007 when active. This Class D airspace area is effective during the specific dates and times established in advance by a Notice to Airmen. The effective date and time will thereafter be continuously published in the Chart Supplement.

* * * * *

Paragraph 6002 Class E Airspace Areas Designated as Surface Areas.

* * * * *

AEA MD E2 Patuxent River, MD [Amended]

Patuxent River NAS (Trapnell Field), MD

(Lat. 38°17′11″ N, long. 76°24′36″ W)

Chesapeake Ranch Airport, MD

(Lat. 38°21′40″ N, long. 76°24′19″ W)

That airspace extending upward from the surface within a 4.7-mile radius of Patuxent River NAS (Trapnell Field) and within 1.8 miles each side of the 047° bearing from Patuxent River NAS extending from the 4.7-mile radius of Patuxent River NAS to 6.5 miles northeast of the airport; and within 1.9 miles each side of the 233° bearing from Patuxent River NAS extending from the 4.7-mile radius to 6.2 miles southwest of the airport; and within 1.8 miles each side of the 137° bearing from Patuxent River NAS extending from the 4.7-mile radius to 10.8 miles southeast of the airport; and within a .5-mile radius of Chesapeake Ranch Airport, excluding that airspace within Restricted Areas R-4005 and R-4007 when active. This Class E airspace area is effective during those times when the Class D airspace is not in effect.

* * * * *

Paragraph 6004 Class E Airspace Designated as an Extension to a Class D Surface Area.

* * * * *

AEA MD E4 Patuxent River, MD [Amended]

Patuxent River NAS (Trapnell Field), MD

(Lat. 38°17′11″ N, long. 76°24′36″ W)

That airspace extending upward from the surface within 1.8 miles each side of the 047° bearing from Patuxent River NAS extending from the 4.7-mile radius of Patuxent River NAS to 6.5 miles northeast of the airport; and within 1.9 miles each side of the 233° bearing from Patuxent River NAS extending from the 4.7-mile radius to 6.2 miles southwest of the airport; and within 1.8 miles each side of the 137° bearing from Patuxent River NAS extending from the 4.7-mile radius to 10.8 miles southeast of the airport, excluding that airspace within Restricted Areas R-4005 and R-4007 when active. This Class E airspace area is effective during specific dates and times established in advance by a Notice to Airmen. The effective date and time will thereafter be continuously published in the Chart Supplement.

* * * * *

Paragraph 6005 Class E Airspace Areas Extending Upward From 700 Feet or More Above the Surface of the Earth.

* * * * *

AEA MD E5 Patuxent River, MD [Amended]

Point in Space Coordinates

(Lat. 38°17′16″ N, long. 76°24′01″ W)

That airspace extending upward from 700 feet above the surface within a 12.2-mile radius of the point in space lat. 38°17′16″ N, long. 76°24′01″ W, excluding the portion NW of a line extending from Lat. 38°15′02″ N, long. 76°39′15″ W; to Lat. 38°26′26″ N, long. 76°13′46″ W.

* * * * *

Issued in College Park, Georgia, on February 12, 2026.
Patrick Young,
Manager, Airspace & Procedures Team North, Eastern Service Center, Air Traffic Organization.

[FR Doc. 2026-03284 Filed 2-18-26; 8:45 am]

BILLING CODE 4910-13-P